DEPARTMENT OF COMMERCE

National Oceanic and Atmospheric Administration

[I.D. 111406G]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held on December 4, 2006 through December 12, 2006. See SUPPLEMENTARY INFORMATION for specific dates and times.

ADDRESSES: The meetings will be held at the Anchorage Hilton Hotel, 500 West Third Avenue, Anchorage, AK.

Council address: North Pacific Fishery Management Council, 605 W. 4th Avenue, Suite 306, Anchorage, AK 99501-2252.

FOR FURTHER INFORMATION CONTACT: Gail Bendixen, Council staff; telephone: (907) 271-2809.

SUPPLEMENTARY INFORMATION: The Council will begin its plenary session at 8 a.m. on Wednesday, December 6, continuing through December 12, 2006. The Council's Advisory Panel (AP) will begin at 8 a.m., Monday, December 4 and continue through Saturday December 9. The Scientific and Statistical Committee (SSC) will begin at 8 a.m. on Wednesday, December 6 and continue through Friday December 8, 2006. The Enforcement Committee will meet Tuesday, December 5, from 9 a.m. to 12 noon, in the Birch/Willow Room. All meetings are open to the public, except executive sessions.

Council Plenary Session: The agenda for the Council's plenary session will include the following issues. The Council may take appropriate action on any of the issues identified.

1. Reports

a. Executive Director's Report

b. NMFS Management Report (including Resource Access Management Division crab management report)

c. North Pacific Research Board Report

d. Enforcement Report

e. U.S. Coast Guard Report

f. Alaska Department of Fish & Game Report (including review of halibut subsistence survey report)

g. U.S. Fish & Wildlife Service Report

h. Department of State Report

i. Protected Species Report (including Marine Mammal Protected Act List of Fisheries for 2007, Adak area pollock study, update on consultation, SSC review of ranking tool)

2. Charter Halibut Management: Status report on 2005 Guideline Harvest Levels (GHLs) and committee report; review discussion paper on 5-fish limit, and committee report and action as necessary; review discussion paper on Halibut Act proposed amendment and committee report, and action as necessary; review separate accountability issue and committee report and action as necessary; review moratorium discussion paper and committee report; review discussion paper on allocations/shares and committee report and action as necessary; review discussion paper on allocations/shares and committee report and action as necessary.

3. Maximum Retainable Amounts (MRA) Adjustments: Final action on amendment.

4. Trawl License Limitation Program Recency: Preliminary review of analysis and direction as necessary.

5. Gulf of Alaska (GOA) Rationalization: Review analysis and refine alternatives.

6. Seabird Interactions: Initial review of Environmental Assessment/Regulatory Impact Review (EA/RIR).

7. Groundfish Management: Receive report on summary of comments on Environmental Impact Statement (EIS); review GOA Stock Assessment Fishery Evaluation Report (SAFE), adopt final harvest specifications for 2007/08; review Bering Sea Aleutian Islands (BS/AI) SAFE, adopt final harvest specifications for 2007/08; review Adak Experimental Fishing Permit (EFP).

8. Prohibited species bycatch: Final action on Vessel Incentive Program (VIP) repeal amendment package; Review EFP for Salmon Bycatch.

9. Bering Sea Habitat Conservation: Receive report on gear research and finalize alternatives for analysis (T).

10. Staff Tasking: Review Committees and tasking and take action as necessary; review progress on the Arctic management, and action as necessary; refine Programmatic Environmental Impact statement management policy workplan.

11. Other Business

The SSC agenda will include the following issues:

a. North Pacific Research Board report

b. Protected Species

c. Charter Halibut moratorium

d. Trawl LLP Recency

e. Seabird Interactions

f. Groundfish Management

g. EFP Review

h. Bering Sea Habitat Conservation

i. BS/AI Crab Management

The Advisory Panel will address the same agenda issues as the Council.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: November 15, 2006.
Tracey L. Thompson,
Acting Director, Office of Sustainable Fisheries, National Marine Fisheries Service.

[FR Doc. E6-19526 Filed 11-17-06; 8:45 am]

BILLING CODE 3510-22-S